DEPARTMENT OF AGRICULTURE

Rural Utilities Service

Basin Electric Power Cooperative: Notice of Availability of an Environmental Assessment

AGENCY: Rural Utilities Service, USDA.

ACTION: Notice of availability of an Environmental Assessment.

SUMMARY: Notice is hereby given that the Rural Utilities Service (RUS) is issuing an Environmental Assessment (EA) in connection with potential impacts related to the proposed Big Bend to Witten Transmission Line Project by the Basin Electric Power Cooperative (Basin Electric). Basin Electric is requesting RUS financial assistance for the proposed action.

DATES: Written comments on this notice must be received on or before February 27, 2015.

FOR FURTHER INFORMATION CONTACT: To obtain copies of the EA, or for further information, contact Richard Fristik, Senior Environmental Protection Specialist, USDA, Rural Utilities Service, 1400 Independence Avenue SW., Stop 1571, Washington, DC 20250-1571, Telephone: (202) 720-5093, Email: richard.fristik@wdc.usda.gov.

You may also contact Kevin L. Solie, Basin Electric Power Cooperative, Inc., 1717 East Interstate Avenue, Bismarck, ND 58503-0564, Telephone: (701) 557-5495, Email: ksolie@bepc.com.

The public may view a copy of the EA online at the following Agency Web site:

• http://www.usda.gov/rus/water/ees/ea.htm.

The public may also view a copy of the EA at the following locations:

• Rural Utilities Service, 1400 Independence Avenue SW., Room 2240, Washington, DC 20250.

• Basin Electric Power Cooperative, 1717 East Interstate Avenue, Bismarck, ND 58503-0564.

Send questions and comments to Richard Fristik, Senior Environmental Protection Specialist, USDA, Rural Utilities Service at the address provided.

SUPPLEMENTARY INFORMATION: The proposed Big Bend to Witten Transmission Line Project (proposed action) consists of an approximately 70-mile long 230-kV single-circuit transmission line, a new Western Area Power Administration (Western) switchyard called Lower Brule Switchyard, an addition to the existing Witten Substation, and approximately two miles of 230-kV double-circuit transmission line between Big Bend Dam and the new Lower Brule Switchyard. Construction at the Lower Brule Switchyard and Witten Substation will include communications facilities, a microwave relay tower, and an associated building. Western and the Bureau of Indian Affairs (BIA) are cooperating agencies in preparation of the EA. The agencies and the Lower Brule Sioux Tribe have closely cooperated with each other to prepare the EA and address issues related to a portion of the proposed transmission line that crosses Indian trust lands.

The network transmission system in South Dakota is not able to accommodate the next several years of projected load growth. The proposed action will strengthen the transmission network, improve transmission system reliability, and help meet future demand for electricity and economic development in the region. In addition to increasing the load serving ability for both Rosebud and West Central Electric Cooperatives, the Project would provide additional access to the regional high voltage transmission system.

The proposed Big Bend to Witten line would enhance system reliability by providing an additional connection to the “grid” roughly midpoint along this east-west line. If a storm damaged a portion of the Fort Randall to Martin 115-kV line, the Big Bend to Witten line could provide power to the undamaged segments of the line. The proposed line would also provide a tap point for West Central near Reliance, which would enhance the reliability and stability of the West Central system. The tap point near Reliance would provide an additional power line to the Lower Brule Sioux Indian Reservation, which currently has only one older line, and would provide reliability and stability to power on the Reservation. In addition, future wind-generation facilities may be able to interconnect to the proposed line to convey power to West Central's markets. Lastly, the Project lends itself to additional build-out that supports Western's long-range plan for a 230-kV system in southern South Dakota, and would provide increased load serving capacity such that the delivery needs of the projected network load could be met in a reliable manner.

Basin Electric is seeking financing from RUS for its ownership of the proposed project. Before making a decision to provide financing, RUS is required to conduct an environmental review under NEPA in accordance with RUS's Environmental Policies and Procedures (7 CFR part 1794). AECOM, an environmental consultant, prepared an EA for RUS that describes the project and assesses the proposed project's environmental impacts. RUS conducted an independent evaluation of the EA and believed it accurately assessed the impact of the proposed project. No significant impacts are expected as a result of the construction of the project.

Any final action by RUS related to the proposed action will be subject to, and contingent upon, compliance with all relevant Federal, State, and local environmental laws and regulations and completion of the environmental review requirements as prescribed in RUS's Environmental Policies and Procedures at 7 CFR part 1794.

Dated: January 21, 2015.
Richard Fristik,
Acting Director, Engineering and Environmental Staff, Rural Utilities Service.

[FR Doc. 2015-01541 Filed 1-27-15; 8:45 am]

BILLING CODE P